DEPARTMENT OF THE INTERIOR

Bureau of Land Management

[BLM_HQ_FRN_MO4500177363]

Notice of Availability of the Draft Programmatic Environmental Impact Statement for Utility-Scale Solar Energy Development and Notice of Public Meetings

AGENCY: Bureau of Land Management, Interior.

ACTION: Notice of availability.

SUMMARY: In compliance with the National Environmental Policy Act of 1969, as amended (NEPA), and the Federal Land Policy and Management Act of 1976, as amended (FLPMA), the Bureau of Land Management (BLM) has prepared a Draft Programmatic Environmental Impact Statement (EIS) for Utility-scale Solar Energy Development and associated Resource Management Plan (RMP) Amendments and by this notice is providing information announcing the opening of the comment period on the Draft Programmatic EIS.

DATES: This notice announces the opening of a 90-day comment period for the Draft Programmatic EIS beginning with the date following the Environmental Protection Agency's (EPA) publication of its Notice of Availability (NOA) in the Federal Register.

To afford the BLM the opportunity to consider comments in the course of preparing the Proposed RMP Amendments/Final Programmatic EIS, please ensure your comments are received prior to the close of the 90-day comment period or 15 days after the last public meeting, whichever is later.

The BLM will hold two virtual and six in-person public meetings during the comment period. Public meetings will commence on February 5, 2024, with the first being a virtual meeting. In-person public meetings will be held in the following cities:

• Boise, Idaho;

• Cedar City, Utah;

• Las Vegas, Nevada;

• Yuma, Arizona;

• Grand Junction, Colorado; and

• Albuquerque, New Mexico.

Additional information for all public meetings is available at the project website listed in the addresses section below.

ADDRESSES: The Draft Programmatic EIS is available for review on the BLM ePlanning project website at https://eplanning.blm.gov/eplanning-ui/project/2022371/510.

Written comments related to the Draft Programmatic EIS may be submitted by any of the following methods:

• Website: https://eplanning.blm.gov/eplanning-ui/project/2022371/510.

• Email: solar@blm.gov.

• Mail: BLM, Attn: Draft Solar EIS, 1849 C Street NW, Washington, DC 20240.

FOR FURTHER INFORMATION CONTACT: Jeremy Bluma, Senior Advisor, National Renewable Energy Coordination Office, BLM Headquarters, email: jbluma@blm.gov or telephone: (208) 789-6014. Individuals in the United States who are deaf, deafblind, hard of hearing, or have a speech disability may dial 711 (TTY, TDD, or TeleBraille) to access telecommunications relay services for contacting Mr. Bluma. Individuals outside the United States should use the relay services offered within their country to make international calls to the point of contact in the United States.

SUPPLEMENTARY INFORMATION: This document provides notice that the BLM has prepared, in collaboration with Cooperating Agencies, a Draft Programmatic EIS and is announcing the opening of the comment period. The Final Programmatic EIS may support a series of RMP amendments following its completion. The Draft Programmatic EIS identifies the land use plans that may be amended.

The planning area is located within the 11 States of Arizona, California (excluding the lands covered by the Desert Renewable Energy Conservation Plan in seven southern California counties), Colorado, Idaho, Montana, Nevada, New Mexico, Oregon, Utah, Washington, and Wyoming and encompasses approximately 162 million acres of BLM-administered public land.

The BLM is undertaking this programmatic evaluation to assess the potential environmental, cultural, and economic impacts of modifying its current solar energy program across the 11 Western States. Potential modifications, through land use plan amendments, are being considered to improve management consistency regarding utility-scale solar energy development, advance national renewable energy development priorities and goals, and address changes in solar technologies that have occurred since the BLM's last solar energy planning effort in 2012. Potential land use plan amendments would align with the principles of multiple use and sustained yield, consistent with FLPMA. Under FLPMA, the BLM strives to make land use decisions that meet the Nation's many needs, are environmentally responsible, and take into account the use and enjoyment of the public lands by present and future generations. The BLM seeks to advance its solar energy program consistent with balanced management for other important land uses such as recreational use; agricultural use, such as grazing; other energy and mineral development; resource protection, including National Monuments and National Conservation Areas; wilderness areas and wilderness study areas; other specially designated areas; wildlife and big game; water resources; cultural, historical, and paleontological resources; and restoration of lands and resources where appropriate.

Purpose and Need

The purpose of the proposed action is to facilitate improved siting of utility-scale solar energy development by identifying areas of BLM-administered lands where solar energy development proposals may encounter fewer resource conflicts as “solar application areas” and identifying areas of public lands with known high potential for resource conflicts as “exclusion areas.” There is a need to improve the solar development application process by providing development opportunities in specified “solar application areas” while maintaining sufficient flexibility to account for site-specific resource considerations on a case-by-case basis as part of subsequent project-specific decisions. Although additional site-specific environmental analysis under NEPA will be needed to support project-level decisions to authorize utility-scale solar energy development, this macro-scale programmatic land use planning effort will provide a framework for making those decisions in a systematic and consistent way. Applications processed under this framework are expected to have a higher likelihood of alignment with the BLM's multiple use and sustained yield mission than under current land use plans, leading to more expedient processing without jeopardizing critical resources or other uses of public lands.

This programmatic planning effort also responds to changes that have occurred since the BLM's last programmatic solar development planning effort. First, utility-scale solar energy development on and off public lands has significantly increased and is expected to continue to increase in view of a growing public interest in carbon pollution-free energy generation. Second, due to technological advancements and economic forces affecting power markets, the composition of proposed solar energy generation projects is now different, with one example being a focus by solar developers in the United States on using photovoltaic technology rather than solar thermal facilities. Third, due to some of the technological advancements mentioned above, the BLM is receiving increased interest in utility-scale solar energy development on public lands at more northern latitudes.

In response to these changes, the BLM needs to update its administration of the public lands to facilitate responsible siting of solar energy development. The BLM seeks to accomplish this by amending its land use plans in the 11 Western States to identify areas more suitable for solar development while appropriately excluding solar energy development applications from areas where protection is warranted based on critical need(s). Potential land use plan amendments may also involve updating design features and environmental evaluation processes and incorporating new information and additional environmental analysis.

Alternatives Including the Preferred Alternative

The BLM has analyzed six alternatives in detail, including the no action alternative. Each alternative makes available varying amounts of public lands for solar development applications. In descending order from the most available public lands for solar development application, Alternative 1 would make available approximately 55 million acres; the No Action Alternative would maintain the availability of approximately 47 million acres; Alternative 2 would make available approximately 36 million acres; Alternative 3 would make available approximately 22 million acres; Alternative 4 would make available approximately 11 million acres; and Alternative 5 would make available approximately 8 million acres. The BLM considered six additional alternatives but did not carry those alternatives forward for detailed analysis for the reasons discussed in the Draft Programmatic EIS.

A reasonably foreseeable development scenario (RFDS) was developed as part of the Draft Programmatic EIS to help define the potential magnitude of solar energy development that could occur within the 11-State study area by 2045. Based on the RFDS, the estimated demand for solar energy generation on public lands by 2045 will be approximately 93,000 megawatts, which would require making approximately 700,000 acres of public land available for utility-scale solar development.

The BLM has identified Alternative 3 as the preferred alternative in the Draft Programmatic EIS. Alternative 3 would make public lands within 10 miles of existing and planned transmission lines over 100 kilovolts available for solar applications unless otherwise excluded based on the resource-based exclusion criteria identified in the EIS. Alternative 3 would improve the solar development application process by excluding solar energy development applications from areas where protection is warranted and providing development siting opportunities in specified “solar application areas” while maintaining sufficient siting flexibility to account for site-specific resource considerations on a case-by-case basis under subsequent project-specific decisions.

Mitigation

Mitigation under the Programmatic EIS would generally take the form of avoidance and minimization. Avoidance would be achieved by excluding certain areas of public lands from solar energy development applications, depending on the alternative, based on defined criteria. Minimization would be achieved by requiring that various programmatic design features be incorporated into solar development proposals. Additional mitigation, including further avoidance, minimization, and compensation, may be required and incorporated into a solar development proposal at the project approval stage.

Schedule for the Decision-Making Process

The BLM will provide this and additional opportunities for public participation consistent with NEPA and land use planning processes, including a 30-day public protest period and a 60-day Governor's consistency review on the Final Programmatic EIS and Proposed RMP Amendments. The Proposed RMP Amendments/Final Programmatic EIS is anticipated to be available for public protest in August 2024.

The BLM will continue to consult with Indian Tribal Nations on a government-to-government basis in accordance with Executive Order 13175, BLM MS 1780, and other Departmental policies. Tribal concerns, including impacts on Indian trust assets and potential impacts to cultural resources, will be given due consideration. Consultation will continue on an individual basis with interested Tribes.

Comments on the Draft Programmatic EIS would be most helpful if provided at a level similar to that of master planning and zoning and with a focus on where solar development on public lands is most appropriate and where it should be disallowed and precluded from consideration. Comments about suggested design features that may be appropriate for the BLM to require are also encouraged.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2)

Benjamin E. Gruber,
Acting Assistant Director, Energy, Minerals, and Realty Management.

[FR Doc. 2024-00730 Filed 1-18-24; 8:45 am]

BILLING CODE 4331-29-P